DEPARTMENT OF DEFENSE

Office of the Secretary

[Docket ID: DoD-2015-OS-0102]

Privacy Act of 1974; System of Records

AGENCY: Office of the Secretary of Defense, DoD.

ACTION: Notice to add a New System of Records.

SUMMARY: The Office of the Secretary of Defense proposes to add a new system of records, DPA 02, entitled “AFNConnect (AFNC)” which will document the eligibility and continued validation of authorized individuals Outside the Continental United States (OCONUS) who register an American Forces Network satellite decoder. AFNConnect provides U.S. military commanders worldwide a means to communicate internal information to OCONUS users. Records may also be used as a management tool for statistical analysis, tracking, reporting, evaluating program effectiveness, and conducting research.

DATES: Comments will be accepted on or before November 27, 2015. This proposed action will be effective the day following the end of the comment period unless comments are received which result in a contrary determination.

ADDRESSES: You may submit comments, identified by docket number and title, by any of the following methods:

* Federal Rulemaking Portal: http://www.regulations.gov. Follow the instructions for submitting comments.

* Mail: Department of Defense, Office of the Deputy Chief Management Officer, Directorate of Oversight and Compliance, Regulatory and Audit Matters Office, 9010 Defense Pentagon, Washington, DC 20301-9010.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Cindy Allard, Chief, OSD/JS Privacy Office, Freedom of Information Directorate, Washington Headquarters Service, 1155 Defense Pentagon, Washington, DC 20301-1155, or by phone at (571) 372-0461.

SUPPLEMENTARY INFORMATION: The Office of the Secretary of Defense notices for systems of records subject to the Privacy Act of 1974 (5 U.S.C. 552a), as amended, have been published in the Federal Register and are available from the address in FOR FURTHER INFORMATION CONTACT or at http://dpcld.defense.gov/.

The proposed system report, as required by 5 U.S.C. 552a(r) of the Privacy Act of 1974, as amended, was submitted on September 25, 2015, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: October 21, 2015.
Aaron Siegel,
Alternate OSD Federal Register Liaison Officer, Department of Defense.

DPA 02

System name:

AFNConnect (AFNC)

System location:

American Forces Network—Broadcast Center (AFN-BC), 23755 Z Street, Riverside, CA 92518-2077.

Categories of individuals covered by the system:

Eligible military personnel (including retirees and reservists), DoD civilian employees, full time direct hire Department of State (DoS) employees, DoD contractors, and their Outside the Continental United States (OCONUS) family members, to include widows, maintaining an Armed Forces Network (AFN) satellite decoder.

Categories of records in the system:

First and last name, location (duty station address/residence country and locality), Unit Identification Code (UIC), DoD ID Number, sponsor/dependent status, home telephone number, address, personal cell phone number, email address, office telephone number, grade/rank, date of birth, organization assigned to (i.e., Department, directorate, branch, office), status (i.e., active duty, retired, or permanently disabled) and decoder serial number.

Authority for the maintenance of the system:

10 U.S.C. 113, Secretary of Defense; DoD Directive (DoDD) 5122.05, Assistant Secretary of Defense for Public Affairs (ASD (PA)); DoDD 5105.74, Defense Media Activity (DMA); and DoD Instruction 5120.20, American Forces Radio and Television Service (AFRTS).

Purpose(s):

To document the eligibility and continued validation of authorized OCONUS individuals who register an AFN satellite decoder. AFNConnect provides U.S. military commanders worldwide a means to communicate internal information to OCONUS users. Records may also be used as a management tool for statistical analysis, tracking, reporting, evaluating program effectiveness, and conducting research.

Routine uses of records maintained in the system, including categories of users and the purposes of such uses:

In addition to those disclosures generally permitted under 5 U.S.C. 552a(b) of the Privacy Act of 1974, as amended, the records contained herein may specifically be disclosed outside the DoD as a routine use pursuant to 5 U.S.C. 552a(b)(3) as follows:

To the Department of State to verify authorized personnel's use of an AFN satellite.

Law Enforcement Routine Use: If a system of records maintained by a DoD Component to carry out its functions indicates a violation or potential violation of law, whether civil, criminal, or regulatory in nature, and whether arising by general statute or by regulation, rule, or order issued pursuant thereto, the relevant records in the system of records may be referred, as a routine use, to the agency concerned, whether federal, state, local, or foreign, charged with the responsibility of investigating or prosecuting such violation or charged with enforcing or implementing the statute, rule, regulation, or order issued pursuant thereto.

Disclosures Required by International Agreements Routine Use: A record from a system of records maintained by a DoD Component may be disclosed to foreign law enforcement, security, investigatory, or administrative authorities to comply with requirements imposed by, or to claim rights conferred in, international agreements and arrangements including those regulating the stationing and status in foreign countries of DoD military and civilian personnel.

Congressional Inquiries Disclosure Routine Use: Disclosure from a system of records maintained by a DoD Component may be made to a congressional office from the record of an individual in response to an inquiry from the congressional office made at the request of that individual.

Disclosure to the Department of Justice for Litigation Routine Use: A record from a system of records maintained by a DoD Component may be disclosed as a routine use to any component of the Department of Justice for the purpose of representing the Department of Defense, or any officer, employee or member of the Department in pending or potential litigation to which the record is pertinent.

Disclosure of Information to the National Archives and Records Administration Routine Use: A record from a system of records maintained by a DoD Component may be disclosed as a routine use to the National Archives and Records Administration for the purpose of records management inspections conducted under authority of 44 U.S.C. 2904 and 2906.

Data Breach Remediation Purposes Routine Use: A record from a system of records maintained by a Component may be disclosed to appropriate agencies, entities, and persons when (1) The Component suspects or has confirmed that the security or confidentiality of the information in the system of records has been compromised; (2) the Component has determined that as a result of the suspected or confirmed compromise there is a risk of harm to economic or property interests, identity theft or fraud, or harm to the security or integrity of this system or other systems or programs (whether maintained by the Component or another agency or entity) that rely upon the compromised information; and (3) the disclosure made to such agencies, entities, and persons is reasonably necessary to assist in connection with the Components efforts to respond to the suspected or confirmed compromise and prevent, minimize, or remedy such harm.

The DoD Blanket Routine Uses set forth at the beginning of the Office of the Secretary of Defense (OSD) compilation of systems of records notices may apply to this system. The complete list of DoD Blanket Routine Uses can be found online at: http://dpcld.defense.gov/Privacy/SORNsIndex/BlanketRoutineUses.aspx.

Policies and practices for storing, retrieving, accessing, retaining, and disposing of records in the system:

Storage:

Electronic storage media.

Retrievability:

Records are retrieved by various combinations of first and last name, email address, location (duty station address/residence country and locality), date of birth, and/or decoder serial number.

Safeguards:

Records are accessible only to personnel on a need-to-know basis to perform their duties. All records are maintained on a protected network. Access to the network where records are maintained requires a valid Common Access Card (CAC). Electronic files and databases are password protected with access restricted to authorized users and networks. Access to physical hardware (i.e. webservers, database servers) is controlled via electronic key lock and is monitored by closed circuit TV. All data transferred via web technologies is encrypted in transit and at rest.

Retention and disposal:

Destroy/delete six (6) years after user account or access is terminated.

System manager(s) and address:

Director, American Forces Radio and Television Service, Defense Media Activity, 6700 Taylor Avenue, Fort Meade, Maryland 20755-7061.

Director, AFN-BC, Defense Media Activity, 23755 Z Street, Riverside, California 92518-2077.

Notification procedure:

Individuals seeking to determine whether information about themselves is contained in this system should address written inquiries to the Privacy Act Officer, Defense Media Activity, 6700 Taylor Avenue, Fort Meade, Maryland 20755-7061.

Signed, written requests should contain first and last name, duty station address, and home or office phone number for positive identification of requester.

Record access procedures:

Individuals seeking access to records about themselves contained in this system of records should address written inquiries to the Office of the Secretary of Defense/Joint Staff Freedom of Information Act Requester Service Center, 1155 Defense Pentagon, Washington, DC 20301-1155.

Signed, written requests should contain first and last name, home address and phone number for positive identification of requester and the name and number of this system of records notice.

Contesting record procedures:

The OSD rules for accessing records, for contesting content, and appealing initial agency determinations are contained in OSD Administrative Instruction 81, 32 CFR part 311, or may be obtained from the system manager.

Record source categories:

Individual and Defense Enrollment Eligibility Reporting System (DEERS).

Exemptions claimed for the system:

None.

[FR Doc. 2015-27228 Filed 10-26-15; 8:45 am]

BILLING CODE 5001-06-P